DEPARTMENT OF TRANSPORTATION

Federal Aviation Administration

First Meeting, Special Committee 212, Helicopter Terrain Awareness and Warning System (HTWAS)

AGENCY: Federal Aviation Administration (FAA), DOT.

ACTION: Notice of RTCA Special Committee 212, Helicopter Terrain Awareness and Warning System (HTWAS).

SUMMARY: The FAA is issuing this notice to advise the public of a first meeting of RTCA Special Committee 212, Helicopter Terrain Awareness and Warning system (HTWAS).

DATES: The meeting will be held September 21, 2006, from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC, 20036, telephone (202) 833-9339; fax (202) 833-9434; Web site http://www.rtca.org.

SUPPLEMENTARY INFORMATION: Pursuant to section 19(a)(2) of the Federal Advisory Committee Act (Pub. L. 92-463, 5 U.S.C., Appendix 2), notice is hereby given for a Special Committee 212 meeting. The agenda will include:

• September 21:

• Opening Plenary Session (Welcome, Introductions, and Administrative Remarks, Select Secretary, Agenda Overview).

• RTCA Overview.

• Previous Terrain Awareness and Warning System (TAWS) History.

• Current Committee Scope, Terms of Reference Overview.

○ Presentation, Discussion, Recommendations.

• Organization of Work, Assign Tasks, and Workshops.

○ Select Workgroup members to study historical helicopter CFIT accidents.

○ Assign Responsibilities.

• Closing Plenary Session (Other Business, Establish Agenda, Date and Place of Next Meeting, Adjourn).

Attendance is open to the interested public but limited to space availability. Pre-Registration for this meeting is not required for attendance but is desired and can be done through the RTCA secretariat. With the approval of the chairmen, members of the public may present oral statements at the meeting. Persons wishing to present statements or obtain information should contact the person listed in the FOR FURTHER INFORMATION CONTACT section. Member of the public may present a written statement to the committee at any time.

Dated: Issued in Washington, DC, on August 17, 2006.
Francisco Estrada, C.,
RTCA Advisory Committee.

[FR Doc. 06-7203 Filed 8-25-06; 8:45 am]

BILLING CODE 4910-13-M